DEPARTMENT OF HEALTH AND HUMAN SERVICES

Food and Drug Administration

[Docket No. FDA-2016-N-0001]

Menu Labeling Public Workshops; Public Meetings

AGENCY: Food and Drug Administration, HHS.

ACTION: Notice of public meetings.

SUMMARY: The Food and Drug Administration (FDA or we) is announcing two public meetings to discuss menu labeling requirements. We will announce an additional public meeting to be held in Oakland, California, in a separate Federal Register notice later this year. The purpose of the public meetings is to help the regulated industry comply with the requirements of the menu labeling final rule.

DATES: See “How to Participate in the Public Meetings” in the SUPPLEMENTARY INFORMATION section of this document for dates, times, and addresses of the public meetings, closing dates for advance registration, requesting special accommodations due to disability, and other information.

ADDRESSES: See “How to Participate in the Public Meetings” in the SUPPLEMENTARY INFORMATION section of this document.

FOR FURTHER INFORMATION CONTACT:

For questions about registering for this meeting or for special accommodations due to disability, contact Cindy de Sales, The Event Planning Group, 8720 Georgia Ave., Suite 801, Silver Spring, MD 20910, 240-316-3207, FAX: 240-652-6002, and email: rsvp@tepgevents.com.

For general questions about the public meetings, contact Loretta A. Carey, Center for Food Safety and Applied Nutrition (HFS-820), Food and Drug Administration, 5100 Paint Branch Pkwy., College Park, MD 20740, 240-402-2371.

SUPPLEMENTARY INFORMATION:

I. Background

In the Federal Register of December 1, 2014 (79 FR 71156), we published a final rule on nutrition labeling of standard menu items in restaurants and similar retail food establishments; the rule is codified at Title 21 of the Code of Federal Regulations, section 101.11. The final rule implements section 403(q)(5)(H) of the Federal Food, Drug, and Cosmetic Act (the FD&C Act) (21 U.S.C. 343(q)(5)(H)), which, in general, requires that restaurants and similar retail food establishments that are part of a chain with 20 or more locations, doing business under the same name, and offering for sale substantially the same menu items, provide calorie information for standard menu items (including food on display and self-service food), provide, upon request, additional written nutrition information for standard menu items, and comply with other requirements described in section 403(q)(5)(H) of the FD&C Act.

On December 18, 2015, the President signed the Consolidated Appropriations Act, 2016 (Pub. L. 114-113). Section 747 of the Consolidated Appropriations Act states that none of the funds made available under the Consolidated Appropriations Act may be used to implement, administer, or enforce the final rule entitled “Food Labeling; Nutrition Labeling of Standard Menu Items in Restaurants and Similar Retail Food Establishments” until 1 year after the date of publication of a Level 1 guidance with respect to nutrition labeling of standard menu items in restaurants and similar retail food establishments.

In the Federal Register of May 5, 2016 (81 FR 27067), we announced the availability of the guidance for industry entitled “A Labeling Guide for Restaurants and Retail Establishments Selling Away-From-Home Foods—Part II (Menu Labeling Requirements in Accordance with 21 CFR 101.11).” The guidance uses a question and answer format and is intended to help restaurants and similar retail food establishments covered by the final rule comply with the nutrition labeling requirements of the final rule. In accordance with the Consolidated Appropriations Act, 2016, enforcement of the final rule will commence May 5, 2017.

We have made education of the menu labeling requirements a high priority and are announcing two menu labeling workshops to educate interested members of the public, especially the regulated industry, about the menu labeling requirements. Interested persons can continue to submit general questions to CalorieLabeling@fda.hhs.gov.

II. Purpose and Format of the Public Meetings

The purpose of these public meetings is to help the regulated industry comply with the requirements of the menu labeling final rule. On the morning of day one of the meeting, we will present information on the menu labeling requirements. The afternoon of day one and all of day two will consist of consultation sessions with FDA staff where individual companies (limited to two members per company) may discuss their specific questions and concerns. Each consultation session is limited to 15 minutes to help ensure that enough time is available to accommodate each company that requests a consultation. We recommend that participants in the consultation session prepare their questions in advance due to the limited time available.

III. How To Participate in the Public Meetings

We encourage all persons who wish to attend the meeting to register in advance of the meeting and to indicate whether they are requesting a consultation session. There is no fee to register for the public meeting, and registration will be on a first-come, first-served basis. Early registration is recommended to facilitate planning of the consultation sessions and because seating is limited. We encourage you to use electronic registration if possible (see the address in table 1).

Table 1 provides information on participation in the public meetings.

Table 1—Information on Menu Labeling Meetings
Activity | Date | Electronic address | Address
First public meeting | July 7 and 8, 2016, 8 a.m. to 4:30 p.m |  | Harvey Wiley Building, 5100 Paint Branch Pkwy., College Park, MD 20740. Note: The Prince George's County Planning Board recently approved a request to change the street name from “Paint Branch Parkway” to “Campus Drive.” This change is expected to occur on July 1, 2016.
Advance registration | by June 30, 2016 | http://www.cvent.com/d/zfq6sm | We encourage you to use electronic registration if possible.¹
Request special accommodations due to a disability | by June 30, 2016 |  | See FOR FURTHER INFORMATION CONTACT.
Second public meeting | September 27 and 28, 2016, 8 a.m. to 4:30 p.m |  | Robert A. Young Federal Building, 1222 Spruce St., St. Louis, MO 63103.
Advance registration | by September 20, 2016 | http://www.cvent.com/d/zfq6sm | We encourage you to use electronic registration if possible.¹
Request special accommodations due to a disability | by September 13, 2016 |  | See FOR FURTHER INFORMATION CONTACT.
¹ You may also register via mail, fax, or email. Please include your name, title, firm name, address, and phone and fax numbers in your registration information and send to: Cindy de Sales, The Event Planning Group, 8720 Georgia Ave., Suite 801, Silver Spring, MD 20910, 240-316-3207, FAX: 240-652-6002, and email: rsvp@tepgevents.com.

IV. Transcripts

Transcripts of the workshop will not be prepared.

Dated: June 10, 2016.
Leslie Kux,
Associate Commissioner for Policy.

[FR Doc. 2016-14138 Filed 6-14-16; 8:45 am]

BILLING CODE 4164-01-P